DEPARTMENT OF HOMELAND SECURITY

Office of the Secretary

[DHS-2005-0018]

Data Privacy and Integrity Advisory Committee

AGENCY: Office of the Secretary, Department of Homeland Security.

ACTION: Notice of Federal Advisory Committee meeting.

SUMMARY: This notice announces the date, time, location, and agenda for the inaugural meeting of the Department of Homeland Security Data Privacy and Integrity Advisory Committee.

DATES: This meeting will be held on Wednesday, April 6, 2005, in Washington, DC.

ADDRESSES: The Department of Homeland Security Data Privacy and Integrity Advisory Committee meeting will be held at the Mayflower Hotel Colonial Ballroom, 1127 Connecticut Avenue, NW., Washington, DC 20036.

FOR FURTHER INFORMATION CONTACT: Nuala O'Connor Kelly, Chief Privacy Officer, or Rebecca J. Richards, Executive Director, Data Privacy and Integrity Advisory Committee, Department of Homeland Security, Washington, DC 20528 by telephone (202) 772-9848 or facsimile (202) 772-5036 or by e-mail PrivacyCommittee@dhs.gov.

SUPPLEMENTARY INFORMATION: The inaugural meeting of the Department of Homeland Security (DHS) Data Privacy and Integrity Advisory Committee (Privacy Advisory Committee) will be on Wednesday, April 6, 2005, at the Mayflower Hotel Colonial Ballroom, 1127 Connecticut Avenue, NW., Washington, DC 20036. The meeting will begin at 8:30 a.m. and continue until 4:30 p.m. Although most of the meeting is open to the public, the sessions between 11:45 a.m. and 2:15 p.m. will be closed in order to permit the Privacy Advisory Committee members to receive administrative briefings concerning travel, ethics and security matters that pertain to their membership.

At this first meeting, the Chief Privacy Officer of DHS will welcome and introduce the members of the Privacy Advisory Committee. DHS component offices will provide an overview of information about the Department for the benefit of the Privacy Advisory Committee members and the general public. The Privacy Advisory Committee will then discuss areas of focus for its initial work on privacy issues within DHS.

At the end of the meeting, between 3:45 p.m. and 4:30 p.m., public comments will be accepted. All those who wish to testify must register and, in order to allow as many people as possible to testify, should limit their remarks to two minutes. For security purposes, any member of the public who wishes to attend the public session should provide his or her name no later than 5 p.m. e.s.t., Wednesday, March 30, 2005, to Rebecca J. Richards via e-mail at PrivacyCommittee@dhs.gov, or via telephone at (202) 772-9848. Photo identification will be required for entry on the day of the meeting to verify those individuals who have registered for the public session, and everyone who plans to attend must be present and seated by 8:15 a.m. (or 2 p.m., if only attending the afternoon sessions). Registration information required for attendance will only be used for verification purposes on the day of the meeting.

Persons with disabilities who require special assistance should indicate this in their admittance request and are encouraged to indicate anticipated special needs as early as possible.

Although every effort will be made to accommodate all members of the public, seating is limited and will be allocated on a first-come, first-served basis.

Persons who are unable to attend or speak at the meeting may submit comments, identified by docket number DHS-2005-0018, by one of the following methods:

• EPA Federal Partner EDOCKET Web site: http://www.epa.gov/feddocket. Follow instructions for submitting comments on the Web site.

The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA [legacy Department of Transportation (DOT) agencies] will continue to use the DOT Docket Management System until full migration to the electronic rulemaking federal docket management system in 2005.

• Federal eRulemaking Portal: http://www.regulations.gov. Follow the instructions for submitting comments.

• E-mail: PrivacyCommittee@dhs.gov. Include docket number in the subject line of the message.

• Fax: (202) 772-5036.

• Mail: Rebecca J. Richards, Executive Director, Data Privacy and Integrity Advisory Committee, Department of Homeland Security, Washington, DC 20528.

All comments received will be posted without change to www.epa.gov/feddocket, including any personal information provided.

Docket: For access to the docket to read background documents or comments received, go to http://www.epa.gov/feddocket. You may also access the Federal eRulemaking Portal at http://www.regulations.gov.

Basis for Closure

In accordance with Section 10(d) of the Federal Advisory Committee Act, Public Law 92-463, as amended, 86 Stat. 770, the Secretary has determined that portions of this Privacy Advisory Committee meeting, which are referenced above as “administrative briefings,” are excluded from the Open Meetings requirement pursuant to the authority contained in 41 CFR 102-3.160(b).

Dated: March 16, 2005.
Michael Chertoff,
Secretary.

[FR Doc. 05-5583 Filed 3-21-05; 8:45 am]

BILLING CODE 4410-10-P